SMALL BUSINESS ADMINISTRATION

[License No. 01/71-0402]

Ticonderoga SBIC, L.P.; Notice Seeking Exemption Under Section 312 of the Small Business Investment Act, Conflicts of Interest

Notice is hereby given that Ticonderoga SBIC, L.P., 25 Braintree Hill Park, Suite 200, Braintree, MA 02184, a Federal Licensee under the Small Business Investment Act of 1958, as amended (“the Act”), in connection with the sale of a small concern, has sought an exemption under Section 312 of the Act and Section 107.730(a), you must not self-deal to the prejudice of a Small Business, the Licensee, its shareholders or partners, or SBA.

The transaction is brought within the purview of § 107.730(a) of the Regulations because which constitutes Conflicts of Interest of the Small Business Administration (“SBA”) Rules. Ticonderoga SBIC, L.P. proposes to sell eStudySite (“eSS), 292 Euclid Ave, Suite 225, San Diego, California 92114, with Meridien Research, Inc. (“MRI”) and NRI Clinical Research (“NRI”). Because the Associates, including Ticonderoga K1, L.P., Ticonderoga KII L.P., and Craig Jones, will receive proceeds from their investments in NRI, this transaction constitutes Conflict of Interest requiring SBA's prior approval.

Notice is hereby given that any interested person may submit written comments on this transaction within fifteen days of the date of this publication to the Associate Administrator, Office of Investment and Innovation, U.S. Small Business Administration, 409 Third Street SW., Washington, DC 20416.

A. Joseph Shepard,
Associate Administrator for Office of Investment and Innovation.

[FR Doc. 2017-19486 Filed 9-13-17; 8:45 am]

BILLING CODE 8025-01-P